Proclamation 8826 of May 21, 2012

National Small Business Week, 2012

By the President of the United States of America

A Proclamation

For centuries, America’s progress has been driven by pioneers who think big, take risks, and work hard. Where their ideas take root, we find inventions that can change the way we live. And when their businesses take off, they fuel an engine of economic growth and job creation that moves America forward. During National Small Business Week, we celebrate the generations of entrepreneurs who have given their all to realize a dream, and we renew our promise to help their businesses grow, hire, and succeed.

Because small businesses are the backbone of our economy, we must ensure our country recovers and rebuilds not only from the top down, but also from the bottom up and the middle out. That is how we will forge an America built to last, and that is why my Administration continues to widen the circle of opportunity for our workers and our businesses. Since I took office, we have repeatedly cut taxes for small businesses and expanded access to the capital they need to thrive. We launched the Startup America initiative, which has connected entrepreneurs to mentorship opportunities, cut red tape that would limit their success, and accelerated innovation in critical industries like health care, clean energy, and education. I was proud to sign the America Invents Act, which is helping entrepreneurs and businesses bring their inventions to market as quickly as possible. Through the American Recovery and Reinvestment Act and the Small Business Jobs Act, the Small Business Administration has supported over $70 billion in lending to small businesses nationwide, and agencies across my Administration have taken action to make Government a more effective resource for entrepreneurs.

Yet, when Americans who want to work cannot find a job, we know we must do more. Last month, I was proud to sign the Jumpstart Our Business Startups Act, a bipartisan bill that enables ordinary Americans to invest in entrepreneurs they believe in. I was also proud to announce the Small Business Network of the Americas and the Women’s Entrepreneurship in the Americas initiative, which—coupled with new Free Trade Agreements with Korea, Colombia, and Panama—will help unlock new markets for companies of all sizes, expand small business exports, and support the broad-based economic growth that is essential to our prosperity. And earlier this year, we launched Business USA—a new online platform to give businesses full access to the resources they need at every stage of development. Moving forward, we will continue to promote tax reform to ease burdens on small businesses and entrepreneurs. And we will seek out new ways to help our companies grow by opening up the global marketplace, leveling the playing field, and forging strong partnerships between government and private enterprise.

Our Nation has always believed that anyone with a solid plan and a willingness to work hard can turn even an improbable idea into a successful business. For generations, that powerful notion has been at the heart of the American promise, forging a legacy of bold entrepreneurship that lives on today and lights the path to a brighter tomorrow. During National Small Business Week, let us reflect on that proud history and resolve to carry it forward in the years to come.

NOW, THEREFORE, I, BARACK OBAMA, President of the United States of America, by virtue of the authority vested in me by the Constitution and the laws of the United States, do hereby proclaim May 20 through May 26, 2012, as National Small Business Week. I call upon all Americans to recognize the contributions of small businesses to the competitiveness of the American economy with appropriate programs and activities.

IN WITNESS WHEREOF, I have hereunto set my hand this twenty-first day of May, in the year of our Lord two thousand twelve, and of the Independence of the United States of America the two hundred and thirty-sixth.

[FR Doc. 2012-12879

Filed 5-23-12; 11:15 am]

Billing code 3295-F2-P